DEPARTMENT OF DEFENSE

GENERAL SERVICES ADMINISTRATION

NATIONAL AERONAUTICS AND SPACE ADMINISTRATION

48 CFR Part 52

[FAC 2005-43; Correction; Docket FAR-2010-0008; Sequence 2]

RIN 9000-AL63

Federal Acquisition Regulation; Correction

AGENCY: Department of Defense (DoD), General Services Administration (GSA), and National Aeronautics and Space Administration (NASA).

ACTION: Correcting amendment.

SUMMARY: The Civilian Agency Acquisition Council and the Defense Acquisition Regulations Council are issuing a correction to FAR Case 2010-008, Recovery Act Subcontract Reporting Procedures (Item III), which was published in the Federal Register at 75 FR 38684, July 2, 2010.

DATES: Effective Date: July 23, 2010.

FOR FURTHER INFORMATION CONTACT: The Regulatory Secretariat, at 1800 F Street, NW., Room 4041, Washington, DC 20405, or (202) 501-4755, for information pertaining to status or publication schedules. Please cite FAC 2005-43; Correction.

SUPPLEMENTARY INFORMATION:

Background

DoD, GSA and NASA published a document in the Federal Register of July 2, 2010 (75 FR 38684) amending FAR 52.204-11(d)(10). The amendment was incorrect.

Need for Correction

As published, the interim rule contains a typographical error which needs to be corrected.

List of Subjects in 48 CFR Part 52

Government procurement.

Accordingly, 48 CFR part 52 is corrected by making the following correcting amendment:

PART 52—SOLICITATION PROVISIONS AND CONTRACT CLAUSES

1. The authority citation for 48 CFR part 52 continues to read as follows:

Authority: 40 U.S.C. 121(c); 10 U.S.C. chapter 137; and 42 U.S.C. 2473(c).

52.204-11 [Amended]

2. Amend section 52.204-11 by removing from the introductory text of paragraph (d)(10) “(d)(1)(i)” and adding “(d)(10)(i)” in its place.

Dated: July 20, 2010.
Edward Loeb,
Director, Acquisition Policy Division.

[FR Doc. 2010-18141 Filed 7-22-10; 8:45 am]

BILLING CODE 6820-EP-P